DEPARTMENT OF ENERGY

Federal Energy Regulatory Commission

[Docket No. EL04-45-000, et al.]

Vermont Electric Cooperative, Inc., et al.; Electric Rate and Corporate Filings

January 7, 2004.

The following filings have been made with the Commission. The filings are listed in ascending order within each docket classification.

1. Vermont Electric Cooperative, Inc.

[Docket No. EL04-45-000]

Take notice that on December 24, 2003, Vermont Electric Cooperative, Inc. (VEC) tendered for filing a Request for Waiver of Requirements of Order Nos. 889, 2004 and 2001. The Vermont Public Service Board and the Vermont Department of Public Service were mailed copies of this filing.

Comment Date: January 23, 2004.

2. NRG Power Marketing Inc., Arthur Kill Power LLC, Astoria Gas Turbines Power LLC, Bayou Cove Peaking Power LLC, Big Cajun I Peaking Power LLC, Conemaugh Power LLC, Connecticut Jet Power LLC, Devon Power LLC, Dunkirk Power LLC, Huntley Power LLC, Indian River Power LLC, Keystone Power LLC, Louisiana Generating LLC, LSP Energy Limited Partnership, LSP-Kendall Energy, LLC, LSP-Nelson Energy LLC, LSP-Pike Energy LLC, Meriden Gas Turbines LLC, Middletown Power LLC, Montville Power LLC, NEO California Power LLC, NEO Chester-Gen LLC, NEO Freehold-Gen LLC, NRG Energy Center Dover LLC, NM Colton Genco LLC, NM Mid Valley Genco LLC, NM Milliken Genco LLC, Norwalk Power LLC, NRG Ashtabula Generating LLC, NRG Audrain Generating LLC, NRG Energy Center Paxton LLC, NRG Ilion LP, NRG Lake Shore Generating LLC, NRG Marketing Services LLC, NRG McClain LLC, NRG New Jersey Energy Sales LLC, NRG Northern Ohio Generating LLC, NRG Rockford LLC, NRG Rockford II LLC, NRG Sterlington Power LLC, Oswego Harbor Power LLC, Somerset Power LLC, and Vienna Power LLC

[Docket Nos. ER97-4281-013, ER99-2161-004, ER99-3000-002, ER02-1572-001, ER02-1571-001, ER00-2810-002, ER99-4359-001, ER99-4358-001, ER99-2168-004, ER99-2162-004, ER00-2807-002, ER00-2809-002, ER00-1259-002, ER98-2259-003, ER99-2602-003, ER00-2448-002, ER02-538-001, ER02-566-001, ER99-4355-001, ER99-4356-001, ER01-1558-001, ER00-3160-002, ER02-320-004, ER02-321-004, ER02-322-004, ER99-4357-001, ER02-1055-001, ER01-2969-002, ER00-2313-002, ER02-1395-001, ER02-1056-001, ER03-955-003, ER02-68-002, ER02-2032-001, ER02-1054-001, ER02-1396-001, ER02-1412-001, ER00-3718-002, ER99-3637-002, ER99-1712-004, and ER00-2808-002]

Take notice that on December 17, 2003, the above-captioned NRG Companies submitted for filing revised market-based rate tariffs to reflect that the NRG Companies are no longer affiliated with Xcel Energy, Inc., and in response to the Commission's November 17 Order Amending Market-based Rate Tariffs and Authorizations in Docket Nos. EL01-118-000 and 001.

Comment Date: January 20, 2004.

3. Alliant Energy Corporate Services, Inc.

[Docket No. ER02-762-004]

Take notice that on December 23, 2003, Alliant Energy Corporate Services, Inc. submitted a compliance filing in response to the Commission's November 17, 2003, Order Amending Market-based Rate Tariffs and Authorizations, in Docket No. EL01-118 and 001.

Comment Date: January 20, 2004.

4. NorthWestern Energy

[Docket No. ER03-329-003]

Take notice that on December 17, 2003, NorthWestern Energy submitted for filing FERC Electric Tariff, Second Revised Volume No. 6, to (1) reflect the name change from Montana Power Company to Northwestern Energy and (2) comply with the Commission's November 17 Order Amending Market-based rate Tariffs and Authorizations, in Docket Nos. EL01-118-000 and 001.

Comment Date: January 20, 2004.

Standard Paragraph

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E4-51 Filed 01-14-04; 8:45 am]

BILLING CODE 6717-01-P